DEPARTMENT OF HEALTH AND HUMAN SERVICES

Indian Health Service

American Indians Into Psychology Program

AGENCY: Indian Health Service, HHS.

ACTION: Notice of competitive grant applications for American Indians Into Psychology Program.

SUMMARY: The Indian Health Service (IHS) announces that competitive grant applications are now being accepted for the American Indians Into Psychology Program. These grants are established under the authority of section 217 of the Indian Health Care Improvement Act, Pub. L. 94-437, as amended. This program is described at 93.970 in the Catalog of Federal Domestic Assistance. Costs will be determined in accordance with applicable Office of Management and Budget Circulars. Executive Order 12372 requiring intergovernmental review is not applicable to this program.

The Public Health Service (PHS) is committed to achieving the health promotion and disease prevention objectives of Healthy People 2010, a PHS-led activity for setting priority areas. This program announcement is related to the priority area of Educational and Community-based programs. Potential applicants may obtain a copy of Healthy People 2010, summary report in print, Stock No. 017-001-00547-9, or via CD-ROM, Stock No. 017-001-00549-5, through the Superintendent of Documents, Government Printing Office, P.O. Box 371954, Pittsburgh, PA 15250-7945, (202) 512-1800. You may access this information via the Internet at the following website: www.health.gov/healthypeople/publication.

Smoke Free Workplace: The PHS strongly encourages all grant recipients to provide a smoke-free workplace and promote the non-use of all tobacco products. This is consistent with the PHS mission to protect and advance the physical and mental health of the American people.

DATES: a. Application Receipt Date—An original and two copies of the completed grant application must be submitted with all required documentation to the Grants Management Branch, Division of Acquisition and Grants Management, Twinbrook Metro Plaza, 12300 Twinbrook Parkway, Suite 100, Rockville, Maryland 20852, by close of business August 31, 2001.

Applications shall be considered as meeting the deadline if they are either: (1) Received on or before the deadline with hand carried applications received by close of business 5 p.m.; or (2) postmarked on or before the deadline and received in time to be reviewed along with all other applications. A legibly dated receipt from a commercial carrier or the U.S. Postal Service will be accepted in lieu of a postmark. Private metered postmarks will not be accepted as proof of timely mailing. Late applications not accepted for processing will be returned and will not be considered for funding.

b. Additional Dates:

1. Application Review: September 7, 2001. Field readers will conduct the review.

2. Applicants Notified: of Results on or about September 11, 2001 (approved), recommended for approval but not funded, or disapproved.)

3. Anticipated Start Date: September 12, 2001.

Contacts for Assistance: For American Indians Into Psychology program information, contact Dr. Marlene EchoHawk, Office of Public Health, Division of Clinical and Preventive Services, 12300 Twinbrook Parkway, Suite 605, Rockville, Maryland 20852, (301) 443-2038. For grant application and business management information, contact Ms. Martha Redhouse, Grants Management Branch, Indian Health Service, Twinbrook Metro Plaza, 12300 Twinbrook Parkway, Suite 100, Rockville, Maryland 20852, (301) 443-5204.

SUPPLEMENTARY INFORMATION: This announcement provides information on the general program purpose, eligibility and documentation, program requirements, required affiliations, funds available, limitations, period of support, and application procedures for FY 2001.

A. General Program Purpose

The purpose of the American Indians Into Psychology Program is to develop and maintain American Indian psychology career recruitment programs as a means of encouraging Indians to enter the mental health field.

B. Eligibility and Documentation

Public and non-profit private colleges and universities are eligible to apply for a grant, however, only one grant will be awarded and funded to a college or university per funding cycle.

C. Program Requirements

Each proposal must address the following objectives to be considered for funding:

1. Provides outreach and recruitment for health professions to Indian communities including elementary, secondary and community colleges located on Indian reservations that will be served by the program.

2. Incorporates a program advisory board comprised of representatives from the tribes and communities that will be served by the program.

3. Provides summer enrichment programs to expose Indian students to the varied fields of psychology through research, clinical, and experiental activities.

4. Provides stipends to undergraduate and graduate students to pursue a career in clinical psychology. Stipends for individuals will not be funded during the first year of the project because the first year will involve recruiting individuals. Stipends must be included in the budget and narrative for the second and third years of the project.

5. Develops affiliation agreements with tribal community colleges, the IHS, university affiliated programs, and other appropriate entities to enhance the education of Indian students.

6. To the maximum extent feasible, utilizes existing university tutoring, counseling and student support services.

7. To the maximum extent feasible, employs qualified Indians in the program.

D. Required Affiliations

The grant applicant must submit official documentation indicating a tribe's cooperating with the support of the program within the schools on its reservation and its willingness to have a tribal representative serving on the program advisory board. Documentation must be in the form prescribed by the tribe's governing body, i.e., letter of support or tribal resolution. Documentation must be submitted from every tribe involved in the grant program.

E. Funds Available, Limitations and Period of Support

1. Funds available—It is anticipated that approximately $200,000 will be available for one award.

2. Limitations—Only one grant project will be awarded to a college or university.

3. Period of support—Project will be awarded for a budget term of 12 months, with a maximum project period of up to 3 years. Grant funding levels include both direct and indirect costs. Funding of succeeding years will be based on the FY 2001 level, continuing need for the program, satisfactory performance, and the availability of appropriations in those years.

F. Application Process

The IHS Grant Application Kit, Form PHS 5161-1 (Revised 7/00), OMB Approval No. 0920-0428, may be obtained by writing or calling the Division of Acquisition and Grants Management, Grants Management Branch, Indian Health Service, Twinbrook Plaza, 12300 Twinbrook Parkway, Suite 100, Rockville, Maryland 20852, telephone (301) 443-5204. (This is not a toll free number.)

G. Grant Application Requirements

All applications must be single-spaced, typewritten, and consecutively numbered pages using black type not smaller than 12 characters per one inch, with conventional one-inch border margins, on only one side of standard size 8½ × 11 paper that can be photocopied. The application narrative (not including the Appendix) must not exceed 5 typed pages as described above. An additional page may be used for each additional year of funding requested. All applications must include the following in the order presented:

—Standard Form 424, Application for Federal Assistance

—Standard Form 424A, Budget Information—Non-Construction Programs and instructions (pages 1-4)

—Project Narrative (5 pages)

1. Introduction and Potential Effectiveness of Project

2. Project Administration

3. Accessibility to Target Population

4. Relationship of Objectives to Manpower Deficiencies

5. Project Budget

—Brief Multi-Year Narratives and Budgets—Limited to one page for each additional year of funding

—Appendix

Once an application is approved for funding, the following documents must be submitted prior to award:

—SF 424B, Assurance—Non-Construction Programs

—Certifications (PHS-5161-1—pages 17-19)

H. Application Narrative Instructions, Application Standards (Evaluation Criteria) and Weights

The instructions for preparing the application narrative also constitute the evaluation criteria for reviewing and scoring the application. Weights assigned each section are noted in parenthesis.

Narrative: Please describe the complete project in clear and succinct style. It should be organized as described in section 1-5 and not exceed 5 single spaced pages, and address the following:

1. Introduction and Potential Effectiveness of Project (30 pts)

a. Describe your legal status and organization.

b. State specific objectives of the project, which are measurable in terms of being quantified, significant to the needs of Indian people, logical, complete and consistent with the purpose of Section 217.

c. Describe briefly what the project intends to accomplish. Identify the expected results, benefits, and outcome or products to be derived from each objective of the project.

d. Provide a project specific work plan (milestone chart), which lists each objective, the tasks to be conducted in order to reach the objective, and the time frame needed to accomplish each task. Time frames should be projected in a realistic manner to assure that the scope of work can be completed within each budget period. (A work plan format is provided.)

e. In the case of proposed projects of identification of Indians with a potential for education or training, include a method of assessing the potential of interested Indians for undertaking necessary education or training.

f. State clearly the criteria by which the project's progress will be evaluated and by which the success of the project will be determined.

g. Explain the methodology that will be used to determine if the needs, goals, and objectives identified and discussed in the application are being met and if the results and benefits identified are being achieved.

h. Identify who will perform the evaluation and when.

2. Project Administration (20 pts.)

a. Provide an organizational chart and describe the administrative, managerial and organizational arrangement and the facilities and resources to be utilized to conduct the proposed project.

b. Provide the name and qualifications of the project director or other individuals responsible for the conduct of the project; the qualifications of the principal staff carrying out the project; and a description of the manner in which the applicant's staff is or will be organized and supervised to carry out the proposed project. Include biographical sketches of key personnel (or job descriptions if the position is vacant.)

c. Describe any prior experience in administering similar projects.

d. Discuss the commitment of the organization, i.e., although not required, the level of non-Federal support. List the intended financial participation, if any, of the applicant in the proposed project specifying the type of contribution such as cash or services, loans of full or part-time staff, equipment, space, materials or facilities or other contributions.

3. Accessibility to Target Population (20 pts.)

a. Describe the current and proposed participation of Indians (if any) in your organization.

b. Identify the target Indian population to be served by your proposed project and the relationship of your organization to that population.

c. Describe the methodology to be used to access the target population.

4. Relationship of Objectives to Manpower Deficiencies (20 pts.)

a. Provide data and supporting documentation to substantiate need for recruitment.

b. Indicate the number of potential Indian students to be contacted and recruited as well as potential cost per student recruited. Those projects that have the potential to serve a greater number of Indians will be given first consideration.

5. Project Budget (10 pts.)

a. Provide a budget for the budget period requested. The funds requested should be appropriate and necessary for the scope of the project.

b. The available funding level of $200,000 is inclusive of both direct and indirect costs. Because this project is for a training grant, the Department of Health and Human Services' policy limiting reimbursement of indirect cost to the lesser of the applicant's actual indirect costs or 8 percent of total direct costs (exclusive of tuition and related fees and expenditures for equipment) is applicable. This limitation applies to all institutions of higher education other than agencies of State and local government.

c. Projects requiring a second and third year must include a brief narrative and budget for each additional year of funding.

Appendix to include:

• Resumes and position descriptions for key staff

• Organizational chart

• Work Plan

• Tribal Resolution(s)/letters of support

• Application Receipt Card, PHS-3038-1 Rev. 5-90

I. Assurances

Assurances (SF-424B), and Certifications (PHS-5161-1—pages 17-19) need not be submitted with the application. They will be required prior to actual award if the application is approved for funding.

J. Reporting

1. Annual Progress Report_An annual progress report is due 60 days before the end of each budget period prior to the final budget period for all multi-year projects. This report will include a brief description of program accomplishments to the goals established, reasons for slippage, other pertinent information as required, and plans for the next budget period.

2. Final Progress Report—A final progress report is due 90 days after expiration of the project period. This report will include a description of program accomplishments to the goals established, reasons for slippage, and other pertinent information as required.

3. Financial Status Report—A final financial status report is due 90 days after expiration of the project period. Standard Form 269 (long form) will be used for financial reporting.

K. Grant Administration Requirements

Grants are administered in accordance with the following documents:

1.45 CFR part 92, HHS, Uniform Administrative Requirements for Grants and Cooperative Agreements to State and Local Governments, or 45 CFR part 74, Administration of Grants to Non-profit Recipients.

2. PHS Grants Policy Statement, and

3. OMB Circular A-21, Cost Principles and Educational Institutions.

L. Application Consideration

1. Application Review

Application submitted by the closing date and verified by the postmark under this program announcement will undergo a review to determine that the applicant is eligible in accordance with the Eligibility and Documentation Section of this announcement; the application narrative, form and materials submitted are adequate to allow the reviewers to undertake an in-depth evaluation; and that the application complies with this announcement; otherwise it will be returned without consideration.

2. Competitive Review of Accepted Applications

Applications meeting eligibility requirements that are complete, responsive, and conform to this program announcement will be reviewed for merit by Reviewers appointed by the IHS. The review will be conducted in accordance with PHS review procedures. The review process ensures selection of quality projects in a national competition for limited funding. Applications will be evaluated and rated on the basis of the evaluation criteria listed above. These criteria are used to evaluate the quality of the proposed project, to assign a numerical score to each application, and to determine the likelihood of its success. Applications scoring below 60 points will not be funded.

3. Results of the Review

The results of the review are forwarded to the Division Director, Division of Health Professions Support (DHPS), for final review and approval. The Division Director will also consider the recommendations from the Grants Management Branch. After the decisions have been made on all applications, applicants are notified by September 11, 2001. Unsuccessful applicants will be notified in writing.

Successful applicants are notified through an official Notice of Grant Award (NGA) document. The NGA will state the amount of Federal funds awarded, the purpose of the grant, the terms and conditions of the grant award, the effective date of the award, the project period, and the budget period.

Dated: July 16, 2001.
Michel E. Lincoln,
Deputy Director, Indian Health Service.

[FR Doc. 01-18291 Filed 7-20-01; 8:45 am]

BILLING CODE 4160-16-M